DEPARTMENT OF ENERGY

Federal Energy Regulatory Commission

[Project No. 13395-000]

Northeast Hydrodevelopment, LLC; Notice of Preliminary Permit Application Accepted for Filing and Soliciting Comments, Motions To Intervene, and Competing Applications

May 4, 2009.

On March 9, 2009, Northeast Hydrodevelopment, LLC filed an application, pursuant to section 4(f) of the Federal Power Act, proposing to study the feasibility of the Main Street Dam Hydroelectric Project, to be located on the Salmon Brook River, in Hillsborough County, New Hampshire. On April 7, 2009, the applicant filed corrections to their original preliminary permit application for the Main Street Dam Project.

The proposed Main Street Dam Project would be located along the Salmon Brook River channel below the existing outlet works at an existing dam owned by the Pennichuck Water Works Company. The existing dam, which impounds the Suncook River, is 75 feet long and 18 feet high, and includes a 31-foot-long board crested weir spillway and a 54-inch-diameter penstock.

The proposed project would consist of: (1) One submersible or tubular-type turbine-generator, with a total hydraulic capacity of 80 cubic feet per second and a total installed generating capacity of 0.085 megawatts, connected to a rehabilitated 54-inch-diameter penstock; (3) a newly excavated 125-foot-long tailrace; (4) an approximately 100-foot-long transmission line; (5) 2.5 foot of new flashboards would be reinstalled on the crest of the Main Street Dam spillway; (6) a rehabilitated gate structure and new trash racks installed; and (7) appurtenant facilities. The Main Street Dam Project would have an estimated average annual generation of 425 megawatts-hours (MWh), which would be sold to Public Service of New Hampshire.

Applicant Contact: Mr. Norm Herbert, Manager, Northeast Hydrodevelopment, LLC, 100 State Route 101A, Building C, Suite 270, Amherst, New Hampshire 03031, (603) 672-8210.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13395) in the docket number field to access the document. For assistance, call toll-free 1-866-208-3372.

Kimberly D. Bose,
Secretary.

[FR Doc. E9-10848 Filed 5-8-09; 8:45 am]

BILLING CODE 6717-01-P